DEPARTMENT OF THE INTERIOR

Bureau of Land Management

[CA-660-04-1220]

Emergency Closure and Restriction Order

AGENCY: Bureau of Land Management, Interior.

ACTION: Notice.

SUMMARY: The Bureau of Land Management (BLM) is imposing a closure on approximately 440 acres of public land to recreational shooting. The emergency closure will remain in place until December 31, 2004. The use of firearms will continue to be allowed for hunting consistent with California Department of Fish and Game regulations and seasons. Specifically, this closure will apply to BLM managed lands located in Aguanga Valley, California, south of Highway 79 along what is known locally as the High Point Road.

FOR FURTHER INFORMATION CONTACT: Bruce Shaffer, Acting Field Manager, 690 West Garnet Avenue, North Palm Springs, CA 92258, telephone (760) 251-4800 or Janaye Byergo, Resource Management Specialist, (858) 451-1767.

SUPPLEMENTARY INFORMATION: The closure will be in concert with a closure imposed on contiguous U.S. Forest Service (USFS) lands. The High Point area attracts users from three counties in southern California—Riverside, Orange, and San Diego. The BLM and USFS have become aware through public complaints that the recreational shooting at High Point is causing an immediate threat to public safety. A highway, residences, and an RV resort are all within two miles of the shooting area. Cross-shooting is occurring from the different shooting sites, and stray and ricocheting bullets are striking homes and out buildings of the nearby private residents. Shooters are firing a wide variety of calibers: handguns—.50, .44, .38, 9 mm, .357; rifles—7 mm magnum, .308, 30.06, 7.62, .22. Some rounds are carrying up to two miles and more in distance. The BLM recognizes that recreational target shooting is a valid use of public lands, and seeks to balance this with the need to provide for public safety.

During the emergency closure, BLM will be taking steps to implement a permanent closure of the area to recreational shooting. This closure is in accordance with provisions of the Federal Land Policy and Management Act of 1976 (Pub. L. 94-579, 90 stat. 2743, 43 U.S.C. 1701) and Title 43, Subpart 8364.1 of the U.S. Code of Federal Regulation (CFR). Maximum penalties are $1000.00 fine and/or 12 months in prison.

This order affects public lands in San Diego County, California, thus described:

San Bernardino Meridian

T. 9 S., R. 1 E.,

Section 2, NW¼NW¼, SW¼NW¼, NW¼SW¼, NE¼SW¼, SE¼SW¼.

T. 9 S., R. 1 E.,

Section 11, NE¼.

T. 9 S., R. 1 E.,

Section 12, W½NW¼.

Bruce Shaffer,
Acting Field Manager.

[FR Doc. 04-25197 Filed 11-10-04; 8:45 am]

BILLING CODE 4310-40-P